DEPARTMENT OF ENERGY

Federal Energy Regulatory Commission

Sunshine Act Meeting Notice

November 13, 2008.

The following notice of meeting is published pursuant to section 3(a) of the government in the Sunshine Act (Pub. L. 94-409), 5 U.S.C. 552b:

Agency Holding Meeting: Federal Energy Regulatory Commission.

Date and Time: November 20, 2008. 10 a.m.

Place: Room 2C, 888 First Street, NE., Washington, DC 20426.

Status: Open.

Matters to be Considered: Agenda. * Note—Items listed on the agenda may be deleted without further notice.

CONTACT PERSON FOR MORE INFORMATION: Kimberly D. Bose, Secretary, Telephone (202) 502-8400. For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

941st—Meeting

Regular Meeting
[November 20, 2008; 10 a.m.]
Item No. | Docket No. | Company
ADMINISTRATIVE
A-1 | AD02-1-000 | Agency Administrative Matters.
A-2 | AD02-7-000 | Customer Matters, Reliability, Security and Market Operations.
A-3 | AD06-3-000 | Energy Market Update.
ELECTRIC
E-1 | RM08-16-000 | Electric Reliability Organization Interpretations of Frequency Response and Bias and Voltage and Reactive Control Reliability Standards.
E-2 | RR08-4-001, RR08-4-002 | North American Electric Reliability Corporation.
E-3 | OMITTED
E-4 | RC08-7-000 | Constellation Energy Commodities Group, Inc.
E-5 | RM08-12-000 | Western Electricity Coordinating Council Regional Reliability Standard Regarding Automatic Time Error Correction.
E-6 | RM05-35-000 | Standard of Review for Modifications to Jurisdictional Agreements.
E-7 | ER07-521-003, ER07-521-004 | New York Independent System Operator, Inc.
E-8 | ER08-1606-000 | ISO New England Inc.
E-9 | EL00-95-164, EL00-95-200 | San Diego Gas & Electric Company v. Sellers of Energy and Ancillary Services Into Markets Operated by the California Independent System Operator Corporation and the California Power Exchange Corporation.
| EL00-98-184, EL00-98-185 | Investigation of Practices of the California Independent System Operator Corporation and the California Power Exchange Corporation.
E-10 | OMITTED
E-11 | EL07-81-001 | NSTAR Electric Company v. ISO New England Inc.
E-12 | ER05-6-089 | Midwest Independent Transmission System Operator, Inc.
| ER05-6-034
| ER05-6-102
| ER05-6-105
| ER05-6-106
| EL04-135-092 | Midwest Independent Transmission System Operator, Inc. and PJM Interconnection, L.L.C.
| EL04-135-110
| EL04-135-105
| EL04-135-108
| EL04-135-109
| EL02-111-109 | Midwest Independent Transmission System Operator, Inc. and PJM Interconnection, L.L.C.
| EL02-111-127
| EL02-111-122
| EL02-111-125
| EL02-111-126
| EL03-212-105 | Ameren Services Company.
| EL03-212-123
| EL03-212-118
| EL03-212-121
| EL03-212-122
E-13 | OMITTED
E-14 | ER08-1567-000 | Southern California Edison Company.
E-15 | OMITTED
E-16 | EC08-124-000 | SUEZ Energy North America, Inc. SUEZ Bidco, LLC. Energy Capital Partners GP I, LLC. FirstLight Power Enterprises, Inc.
E-17 | ER02-2001-009, ER07-559-000 | Electric Quarterly Reports Flat Earth Energy, LLC.
E-18 | PL09-2-000 | Material Changes in Facts that Require Notifications Under Commission Regulations Under the Public Utility Holding Company Act of 2005.
E-19 | EC08-91-000, EC08-91-001 | Horizon Asset Management, Inc.
E-20 | ER08-209-001 | Midwest Independent Transmission System Operator, Inc.
E-21 | ER00-3251-015, ER00-3251-017 | Exelon Generation Company, LLC.
| ER99-754-016, ER99-754-017 | AmerGen Energy Company, LLC.
| ER98-1734-014, ER98-1734-016 | Commonwealth Edison Company.
| ER01-1919-011, ER01-1919-013 | Exelon Energy Company.
| ER01-1147-006, ER01-1147-007 | PEPCO Energy Company.
| ER01-513-021 | Exelon West Medway, LLC.
| ER01-513-022 | Exelon Wyman, LLC. Exelon New Boston, LLC. Exelon Framingham, LLC.
| ER99-2404-011, ER99-2404-012 | Exelon New England Power Marketing, L.P.
E-22 | ER08-412-002 | Commonwealth Edison Company and Exelon Generation Company, LLC.
GAS
G-1 | RM08-2-000 | Pipeline Posting Requirements under Section 23 of the Natural Gas Act.
G-2 | RM08-1-001 | Promotion of a More Efficient Capacity Release Market.
G-3 | CP07-405-002 | Texas Gas Transmission, LLC.
G-4 | IS05-82-004, IS05-82-005 | BP Pipelines (Alaska) Inc.
| IS05-80-004, IS05-80-005 | ConocoPhillips Transportation Alaska Inc.
| IS05-72-004, IS05-72-005 | ExxonMobil Pipeline Company.
| IS05-96-004, IS05-96-005 | Koch Alaska Pipeline Company LLC.
| IS05-107-003, IS05-107-004 | Unocal Pipeline Company.
| OR05-2-003, OR05-2-004 | State of Alaska v. BP Pipelines (Alaska) Inc.
|  | ExxonMobil Pipeline Company.
|  | ConocoPhillips Transportation Alaska, Inc.
|  | Unocal Pipeline Company.
|  | Koch Alaska Pipeline Company.
| OR05-3-014, OR05-3-015 | Anadarko Petroleum Corporation v. TAPS Carriers.
| OR05-10-003, OR05-10-004 | BP Pipelines (Alaska) Inc.
| IS06-70-002, IS06-70-003 | BP Pipelines (Alaska) Inc.
| IS06-71-002, IS06-71-003 | ExxonMobil Pipeline Company.
| IS06-63-002, IS06-63-003 | ConocoPhillips Transportation Alaska, Inc.
| IS06-82-002, IS06-82-003 | Unocal Pipeline Company.
| IS06-66-002, IS06-66-003 | Koch Alaska Pipeline Company.
| OR06-2-002, OR06-2-003 | Anadarko Petroleum Corporation v. TAPS Carriers.
G-5 | RM09-2-000 | Contract Reporting Requirements of Intrastate Natural Gas Companies.
G-6 | RP08-606-000 | SG Resources Mississippi, L.L.C.
G-7 | RM07-20-000 | Fuel Retention Practices of Natural Gas Companies.
HYDRO
H-1 | P-1417-229 | Central Nebraska Public Power and Irrigation District.
H-2 | P-1490-048 | Brazos River Authority.
H-3 | P-6066-033 | McCallum Enterprises I, Limited Partnership.
H-4 | P-9300-021 | James Lichoulas, Jr.
H-5 | P-2082-049 | PacifiCorp.
CERTIFICATES
C-1 | CP02-229-004 | SG Resources Mississippi, L.L.C.

Kimberly D. Bose,
Secretary.

A free webcast of this event is available through http://www.ferc.gov. Anyone with Internet access who desires to view this event can do so by navigating to http://www.ferc.gov's Calendar of Events and locating this event in the Calendar. The event will contain a link to its webcast. The Capitol Connection provides technical support for the free webcasts. It also offers access to this event via television in the DC area and via phone bridge for a fee. If you have any questions, visit http://www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. E8-27410 Filed 11-17-08; 8:45 am]

BILLING CODE 6717-01-P